DEPARTMENT OF ENERGY

Federal Energy Regulatory Commission

Combined Notice of Filings

Take notice that the Commission has received the following Natural Gas Pipeline Rate and Refund Report filings:

Filings Instituting Proceedings

Docket Numbers: CP23-30-000.

Applicants: Columbia Gas of Pennsylvania, Inc.

Description: Columbia Gas of Pennsylvania, Inc. submits Application for Limited Jurisdiction Certificate of Public Convenience and Necessity.

Filed Date: 12/21/22.

Accession Number: 20221221-5150.

Comment Date: 5 p.m. ET 1/10/23.

Docket Numbers: PR23-20-000.

Applicants: Columbia Gas of Ohio, Inc.

Description: § 284.123 Rate Filing: COH Rates effective 11-29-2022 to be effective 11/29/2022.

Filed Date: 12/29/22.

Accession Number: 20221229-5131.

Comment Date: 5 p.m. ET 1/19/23.

Docket Numbers: RP23-315-000.

Applicants: Transcontinental Gas Pipe Line Company, LLC.

Description: Compliance filing: Cash Out Surcharge True Up Filing to be effective N/A.

Filed Date: 12/29/22.

Accession Number: 20221229-5004.

Comment Date: 5 p.m. ET 1/10/23.

Docket Numbers: RP23-316-000.

Applicants: ETC Tiger Pipeline, LLC.

Description: § 4(d) Rate Filing: Amended NRA—BP Energy Co to be effective 1/1/2023.

Filed Date: 12/29/22.

Accession Number: 20221229-5083.

Comment Date: 5 p.m. ET 1/10/23.

Docket Numbers: RP23-317-000.

Applicants: Nautilus Pipeline Company, L.L.C.

Description: § 4(d) Rate Filing: Negotiated Rates—EnVen Energy eff 12-28-22 to be effective 12/28/2022.

Filed Date: 12/29/22.

Accession Number: 20221229-5288.

Comment Date: 5 p.m. ET 1/10/23.

Docket Numbers: RP23-318-000.

Applicants: Columbia Gas Transmission, LLC.

Description: Compliance filing: Penalty Revenue Credit Report 2022 to be effective N/A.

Filed Date: 12/30/22.

Accession Number: 20221230-5005.

Comment Date: 5 p.m. ET 1/11/23.

Docket Numbers: RP23-319-000.

Applicants: MountainWest Overthrust Pipeline, LLC.

Description: § 4(d) Rate Filing: WIC TSA 4229 Amendment to be effective 2/1/2023.

Filed Date: 12/30/22.

Accession Number: 20221230-5010.

Comment Date: 5 p.m. ET 1/11/23.

Docket Numbers: RP23-320-000.

Applicants: El Paso Natural Gas Company, L.L.C.

Description: § 4(d) Rate Filing: Negotiated Rate Agmt Update (Conoco—Jan 1 23) to be effective 1/1/2023.

Filed Date: 12/30/22.

Accession Number: 20221230-5011.

Comment Date: 5 p.m. ET 1/11/23.

Docket Numbers: RP23-321-000.

Applicants: Gulf South Pipeline Company, LLC.

Description: § 4(d) Rate Filing: Cap Rel Neg Rate Agmt (Panda 624 to Tenaska 55832) to be effective 1/1/2023.

Filed Date: 12/30/22.

Accession Number: 20221230-5038.

Comment Date: 5 p.m. ET 1/11/23.

Docket Numbers: RP23-322-000.

Applicants: Gulf South Pipeline Company, LLC.Description: § 4(d) Rate Filing: Cap Rel Neg Rate Agmt (Methanex 42805 to Tenaska 55839) to be effective 1/1/2023.

Filed Date: 12/30/22.

Accession Number: 20221230-5039.

Comment Date: 5 p.m. ET 1/11/23.

Docket Numbers: RP23-323-000.

Applicants: Texas Gas Transmission, LLC.

Description: § 4(d) Rate Filing: Cap Rel Neg Rate Agmt (JayBee 34446 to Macquarie 54072) to be effective 1/1/2023.

Filed Date: 12/30/22.

Accession Number: 20221230-5046.

Comment Date: 5 p.m. ET 1/11/23.

Docket Numbers: RP23-324-000.

Applicants: El Paso Natural Gas Company, L.L.C.

Description: § 4(d) Rate Filing: Negotiated Rate Agmt Update (Conoco—Jan 3 23) to be effective 1/3/2023.

Filed Date: 12/30/22.

Accession Number: 20221230-5070.

Comment Date: 5 p.m. ET 1/11/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2022.
Debbie-Anne A. Reese,
Deputy Secretary.

[FR Doc. 2023-00018 Filed 1-5-23; 8:45 am]

BILLING CODE 6717-01-P